GENERAL SERVICES ADMINISTRATION

[FAI N03]

Federal Acquisition Institute/Defense Acquisition University Vendor Meeting

AGENCY: Office of the Chief Acquisition Officer, General Services Administration (GSA).

ACTION: Notice of meeting.

SUMMARY: The Federal Acquisition Institute (FAI) and the Defense Acquisition University (DAU) will hold a vendor meeting to provide information on shared initiatives and activities, as well as recent policy developments in the area of acquisition training. FAI and DAU work together to address many of the acquisition workforce training needs of the Federal Government. Partnering with DAU enables FAI to build upon existing DAU training, develop Governmentwide curriculum, and promote a cohesive and agile workforce.

FAI will describe plans and requirements for training-related services under the Acquisition Workforce Training Fund (AWTF). Of particular interest to vendors is a solicitation for core acquisition training that FAI plans to issue soon.

DAU will discuss plans for the redesign of Contracting (CON) Level 2 courses.

DATES: The meeting will be held December 9, 2005, from 10:00 a.m. to 12 p.m.

ADDRESSES: The meeting will be held at GSA’s auditorium located at 1800 F Street, NW., Washington, DC. Register by e-mail at maria.hernandez@gsa.gov, or call (703) 558-4795.

WHO SHOULD ATTEND? Training developers, vendors with Commercial-off-the-Shelf (COTS) training products, vendors with capabilities related to the full Instructional System Design (ISD) methodologies, and acquisition training experts.

FOR FURTHER INFORMATION CONTACT: Ms. Maria Hernandez, by phone at 703-558-4795, or by e-mail at maria.hernandez@gsa.gov.

Dated: November 18, 2005.
Pat Brooks,
Director,Office of National and Regional Acquisition Development.

[FR Doc. 05-23240 Filed 11-23-05; 8:45 am]

BILLING CODE 6820-EP-S